DEPARTMENT OF THE INTERIOR

Bureau of Land Management

[LLORB00000.L10200000.BS0000.LXSSH1060000.18X.HAG 18-0166]

Notice of Public Meeting for the Southeast Oregon Resource Advisory Council

AGENCY: Bureau of Land Management, Interior.

ACTION: Notice of public meeting.

SUMMARY: In accordance with the Federal Land Policy and Management Act of 1976 and the Federal Advisory Committee Act of 1972, the U.S. Department of the Interior, the Bureau of Land Management (BLM) Southeast Oregon Resource Advisory Council (RAC) will meet as indicated below.

DATES: The Southeast Oregon RAC will meet via teleconference Friday, November 16, 2018, from 8:30 a.m. to 3:30 p.m. Pacific Standard Time.

ADDRESSES: The Southeast Oregon RAC meeting will be held via teleconference. The telephone conference line number for the meeting is 1-866-524-6456, Participant Code: 608605.

FOR FURTHER INFORMATION CONTACT: Larisa Bogardus; Public Affairs Officer; 1301 S G Street, Lakeview, Oregon 97630; 541-947-6811; lbogardus@blm.gov. Persons who use a telecommunications device for the deaf (TDD) may call the Federal Relay Service (FRS) at 1(800) 877-8339 to contact the above individual during normal business hours. The FRS is available 24 hours a day, 7 days a week, to leave a message or question with the above individual. You will receive a reply during normal business hours.

SUPPLEMENTARY INFORMATION: The meeting will include discussion regarding the management of land as part of the Lakeview District's Resource Management Plan Amendment process. A final agenda will be posted online at https://www.blm.gov/get-involved/resource-advisory-council/near-you/oregon-washington/southeast-oregon-rac at least one week prior to the teleconference.

The 15-member Southeast Oregon RAC was chartered and its members appointed by the Secretary of the Interior. The members provide diverse perspectives in commodity, conservation, and general interests. They provide advice to the BLM and Forest Service resource managers regarding management plans and proposed resource actions on public land in southeast Oregon. All meetings are open to the public in their entirety and a public comment period is scheduled for 11:30-12:00.

Before including your address, phone number, email address, or other personal identifying information in your comments, please be aware that your entire comment—including your personal identifying information—may be made publicly available at any time. While you can ask us in your comment to withhold your personal identifying information from public review, we cannot guarantee that we will be able to do so.

Authority: 43 CFR 1784.4-2

Jeffrey Rose,
Burns District Manager.

[FR Doc. 2018-22495 Filed 10-15-18; 8:45 am]

BILLING CODE 4310-33-P